DEPARTMENT OF ENERGY

Federal Energy Regulatory Commission

Combined Notice of Filings #2

Take notice that the Commission received the following electric rate filings:

Docket Numbers: ER17-1643-001.

Applicants: Southwest Power Pool, Inc.

Description: Tariff Amendment: Defiiciency Response in ER17-1643—Offer Database Roll Forward Logic to be effective 7/20/2017.

Filed Date: 8/2/17.

Accession Number: 20170802-5077.

Comments Due: 5 p.m. ET 8/23/17.

Docket Numbers: ER17-2221-000.

Applicants: Astoria Generating Company, L.P.

Description: § 205(d) Rate Filing: Revised Tariff re Cateogry Seller & 819 to be effective 8/3/2017.

Filed Date: 8/2/17.

Accession Number: 20170802-5055, 20170802-5102.

Comments Due: 5 p.m. ET 8/23/17.

Docket Numbers: ER17-2222-000.

Applicants: Crete Energy Venture, LLC.

Description: § 205(d) Rate Filing: Revised MBR Tariff re Cat Seller & 819 to be effective 8/3/2017.

Filed Date: 8/2/17.

Accession Number: 20170802-5056, 20170802-5102.

Comments Due: 5 p.m. ET 8/23/17.

Docket Numbers: ER17-2223-000.

Applicants: Lincoln Generating Facility, LLC.

Description: § 205(d) Rate Filing: Revised MBR Tariff re Cat Seller & 819 to be effective 8/3/2017.

Filed Date: 8/2/17.

Accession Number: 20170802-5057.

Comments Due: 5 p.m. ET 8/23/17.

Docket Numbers: ER17-2224-000.

Applicants: New Covert Generating Company, LLC.

Description: § 205(d) Rate Filing: Revised MBR Tariff re Cat Seller & 829 to be effective 8/3/2017.

Filed Date: 8/2/17.

Accession Number: 20170802-5058.

Comments Due: 5 p.m. ET 8/23/17.

Docket Numbers: ER17-2225-000.

Applicants: Midcontinent Independent System Operator, Inc.

Description: § 205(d) Rate Filing: 2017-08-02_SA 2931 ATC-WPL J390 E&P Termination to be effective 8/3/2017.

Filed Date: 8/2/17.

Accession Number: 20170802-5065.

Comments Due: 5 p.m. ET 8/23/17.

Docket Numbers: ER17-2226-000.

Applicants: Rolling Hills Generating, L.L.C.

Description: § 205(d) Rate Filing: Revised MBR Tariff re Cat Seller & 819 to be effective 8/3/2017.

Filed Date: 8/2/17.

Accession Number: 20170802-5068.

Comments Due: 5 p.m. ET 8/23/17.

Docket Numbers: ER17-2227-000.

Applicants: Southern California Edison Company.

Description: § 205(d) Rate Filing: Amended and Restated TSA Golden State Water Company RS No. 465 to be effective 10/2/2017.

Filed Date: 8/2/17.

Accession Number: 20170802-5075.

Comments Due: 5 p.m. ET 8/23/17.

Docket Numbers: ER17-2228-000.

Applicants: Midcontinent Independent System Operator, Inc.

Description: § 205(d) Rate Filing: 2017-08-02_SA 2509 ITC-Tuscola Wind E&P (J202) Termination to be effective 8/3/2017.

Filed Date: 8/2/17.

Accession Number: 20170802-5076.

Comments Due: 5 p.m. ET 8/23/17.

Docket Numbers: ER17-2229-000.

Applicants: Southwest Power Pool, Inc.

Description: § 205(d) Rate Filing: Tariff Revisions to Change Frequency of Regional Cost Allocation Review to be effective 10/1/2017.

Filed Date: 8/2/17.

Accession Number: 20170802-5081.

Comments Due: 5 p.m. ET 8/23/17.

Docket Numbers: ER17-2230-000.

Applicants: Golden Spread Electric Cooperative, Inc.

Description: § 205(d) Rate Filing: Member Rate Change—North Plains to be effective 6/8/2017.

Filed Date: 8/2/17.

Accession Number: 20170802-5082.

Comments Due: 5 p.m. ET 8/23/17.

Docket Numbers: ER17-2231-000.

Applicants: Public Service Company of Colorado.

Description: § 205(d) Rate Filing: OATT-PSCo-TSGT-Non-Conforming BASA 409 0.1.0 to be effective 4/1/2017.

Filed Date: 8/2/17.

Accession Number: 20170802-5087.

Comments Due: 5 p.m. ET 8/23/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 2, 2017.
Nathaniel J. Davis, Sr.,
Deputy Secretary.

[FR Doc. 2017-16758 Filed 8-8-17; 8:45 am]

BILLING CODE 6717-01-P